DEPARTMENT OF HOMELAND SECURITY

Federal Emergency Management Agency

[Docket ID FEMA-2011-0033; OMB No. 1660-0024]

Agency Information Collection Activities: Proposed Collection; Comment Request, Federal Assistance for Offsite Radiological Emergency Planning

AGENCY: Federal Emergency Management Agency, DHS.

ACTION: Notice.

SUMMARY: The Federal Emergency Management Agency, as part of its continuing effort to reduce paperwork and respondent burden, invites the general public and other Federal agencies to take this opportunity to comment on a revision of a currently approved collection. In accordance with the Paperwork Reduction Act of 1995, this notice seeks comments concerning the Federal Emergency Management Agency's request for information from the licensee of a nuclear power plant that is needed in order form a decision as to whether or not a condition of “decline or fail” exists at the State and local government level in the preparation of emergency planning responses.

DATES: Comments must be submitted on or before January 20, 2012.

ADDRESSES: To avoid duplicate submissions to the docket, please use only one of the following means to submit comments:

(1) Online. Submit comments at http://www.regulations.gov under Docket ID FEMA-2011-0033. Follow the instructions for submitting comments.

(2) Mail. Submit written comments to Docket Manager, Office of Chief Counsel, DHS/FEMA, 500 C Street, SW., Room 835, Washington, DC 20472-3100.

(3) Facsimile. Submit comments to (703) 483-2999.

(4) Email. Submit comments to FEMA-POLICY@dhs.gov. Include Docket ID FEMA-2011-0033 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Deborah J. Mauldin, Policy Specialist, Technological Hazards Division, Radiological Emergency Preparedness Branch, at (202) 212-2127 for additional information. You may contact the Records Management Division for copies of the proposed collection of information at facsimile number (202) 646-3347 or email address: FEMA-Information-Collections-Management@dhs.gov.

SUPPLEMENTARY INFORMATION: Executive Order 12657, dated November 18, 1988, charged the Federal Emergency Management Agency (FEMA) and other Federal agencies with emergency planning response in cases where State and local governments have declined or failed to prepare emergency plans. To implement Executive Order 12657, FEMA worked with the Nuclear Regulatory Commission (NRC) and other Federal agencies on the Federal Radiological Preparedness Coordinating Committee to develop 44 CFR part 352, Commercial Nuclear Power Plants: Emergency Preparedness Planning. This regulation establishes policies and procedures for a licensee submission of a certification of “decline or fail”, and for FEMA determination concerning Federal assistance to the licensee; and also establishes policies and procedures for providing Federal support for offsite planning and preparedness.

Collection of Information

Title: Federal Assistance for Offsite Radiological Emergency Planning.

Type of Information Collection: Revision of a currently approved collection.

OMB Number: 1660-0024.

FEMA Forms: No form.

Abstract: This collection of information establishes policies and procedures for submission by a commercial nuclear power plant licensee of a certification for Federal assistance under Executive Order 12657. It contains policies and procedures for FEMA's determinations, with respect to a certification. It also establishes a framework for providing Federal assistance to licensees, and procedures for review and evaluation of the adequacy of licensee offsite radiological emergency planning and preparedness.

Affected Public: Business and other for profits.

Number of Respondents: 1.

Number of Responses: 1.

Estimated Total Annual Burden Hours: 40.

Estimated Cost: There are no annual record keeping, capital, startup, nor maintenance costs associated with this information collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Gary L. Anderson,
Acting Chief Administrative Officer, Mission Support Bureau, Federal Emergency Management Agency, Department of Homeland Security.

[FR Doc. 2011-29948 Filed 11-18-11; 8:45 am]

BILLING CODE 9110-21-P